SURFACE TRANSPORTATION BOARD

[Docket No. EP 290 (Sub-No. 5) (2016-3)]

Quarterly Rail Cost Adjustment Factor

AGENCY: Surface Transportation Board.

ACTION: Approval of rail cost adjustment factor.

SUMMARY: The Board has approved the third quarter 2016 Rail Cost Adjustment Factor (RCAF) and cost index filed by the Association of American Railroads. The third quarter 2016 RCAF (Unadjusted) is 0.842. The third quarter 2016 RCAF (Adjusted) is 0.356. The third quarter 2016 RCAF-5 is 0.337.

DATES: Effective Date: July 1, 2016.

FOR FURTHER INFORMATION CONTACT: Pedro Ramirez, (202) 245-0333. Federal Information Relay Service (FIRS) for the hearing impaired: (800) 877-8339.

SUPPLEMENTARY INFORMATION: Additional information is contained in the Board's decision, which is available on our Web site, http://www.stb.dot.gov. Copies of the decision may be purchased by contacting the Office of Public Assistance, Governmental Affairs, and Compliance at (202) 245-0238. Assistance for the hearing impaired is available through FIRS at (800) 877-8339.

This action is categorically excluded from environmental review under 49 CFR 1105.6(c).

By the Board, Chairman Elliott, Vice Chairman Miller, and Commisioner Begeman.
Decided: June 14, 2016.
Raina Contee,
Clearance Clerk.

[FR Doc. 2016-14508 Filed 6-17-16; 8:45 am]

BILLING CODE 4915-01-P